SECURITIES AND EXCHANGE COMMISSION

[Release No. 34-83750; File No. SR-CboeBZX-2018-010]

Self-Regulatory Organizations; Cboe BZX Exchange, Inc.; Notice of Withdrawal of a Proposed Rule Change To Adopt BZX Rule 14.11(k) To Permit the Listing and Trading of Managed Portfolio Shares and To List and Trade Shares of the ClearBridge Appreciation ETF, ClearBridge Large Cap ETF, ClearBridge Mid Cap Growth ETF, ClearBridge Select ETF, and ClearBridge All Cap Value ETF

July 31, 2018.

On February 5, 2018, Cboe BZX Exchange, Inc. (“Exchange” or “BZX”) filed with the Securities and Exchange Commission (“Commission”), pursuant to Section 19(b)(1) of the Securities Exchange Act of 1934 (“Exchange Act”) ¹ and Rule 19b-4 thereunder,² a proposed rule change to adopt BZX Rule 14.11(k) to permit the listing and trading of Managed Portfolio Shares, and to list and trade shares of the ClearBridge Appreciation ETF, ClearBridge Large Cap ETF, ClearBridge Mid Cap Growth ETF, ClearBridge Select ETF, and ClearBridge All Cap Value ETF under proposed BZX Rule 14.11(k). The proposed rule change was published for comment in the Federal Register on February 20, 2018.³ On April 3, 2018, pursuant to Section 19(b)(2) of the Exchange Act,⁴ the Commission designated a longer period within which to approve the proposed rule change, disapprove the proposed rule change, or institute proceedings to determine whether to disapprove the proposed rule change.⁵ On May 21, 2018, the Commission instituted proceedings under Section 19(b)(2)(B) of the Exchange Act ⁶ to determine whether to approve or disapprove the proposed rule change.⁷ The Commission has received four comment letters on the proposed rule change.⁸

¹ 15 U.S.C. 78s(b)(1).

² 17 CFR 240.19b-4.

³ See Securities Exchange Act Release No. 82705 (February 13, 2018), 83 FR 7256.

⁴ 15 U.S.C. 78s(b)(2).

⁵ See Securities Exchange Act Release No. 82984, 83 FR 15181 (April 9, 2018).

⁶ 15 U.S.C. 78s(b)(2)(B).

⁷ See Securities Exchange Act Release No. 83293, 83 FR 24367 (May 25, 2018).

⁸ See letters to Brent J. Fields, Secretary, Commission, from: (1) Todd J. Broms, Chief Executive Officer, Broms & Company LLC, dated March 13, 2018; (2) Simon P. Goulet, Co-Founder, Blue Tractor Group, LLC, dated March 19, 2018; (3) Terence W. Norman, Founder, Blue Tractor Group, LLC, dated March 20, 2018; and (4) Terence W. Norman, Founder, Blue Tractor Group, LLC, dated May 8, 2018. The comment letters are available at https://www.sec.gov/comments/sr-cboebzx-2018-010/cboebzx2018010.htm.

On July 27, 2018, the Exchange withdrew the proposed rule change (SR-CboeBZX-2018-010).

For the Commission, by the Division of Trading and Markets, pursuant to delegated authority.⁹
⁹ 17 CFR 200.30-3(a)(12).
Robert W. Errett,
Deputy Secretary.

[FR Doc. 2018-16722 Filed 8-3-18; 8:45 am]

BILLING CODE 8011-01-P